DEPARTMENT OF TRANSPORTATION

Federal Aviation Administration

Advisory Circular 33.17-1, Fire Prevention

AGENCY: Federal Aviation Administration (FAA), DOT.

ACTION: Notice of availability of proposed advisory circular.

SUMMARY: This notice announces the availability of proposed Advisory Circular (AC) 33.17-1, titled “Fire Prevention”.

DATES: Comments must be received on or before February 8, 2002.

ADDRESSES: Send all comments on the proposed AC to the Federal Aviation Administration, Attn: Marc Bouthillier, Engine and Propeller Standards Staff, ANE-110, Engine and Propeller Directorate, Aircraft Certification Service, 12 New England Executive Park, Burlington, MA 01803-5299.

FOR FURTHER INFORMATION CONTACT: Marc Bouthillier, Engine and Propeller Standards Staff, ANE-110, at the above address, telephone (781) 238-7120, fax (781) 238-7199. If you have access to the Internet, you may also obtain further information by writing to the following address: “marc.bouthillier@faa.gov”.

SUPPLEMENTARY INFORMATION:

Comments Invited

A copy of the proposed AC may be obtained by contacting the person named under FOR FURTHER INFORMATION CONTACT, or Internet users may obtain a copy at the following address: “http://www.airweb.faa.gov/rgl”. Interested persons are invited to comment on the proposed AC, and to submit such written data, views, or arguments as they desire. Commenters must identify the subject of the AC, and submit comments to the address specified above. All communications received on or before the closing date for comments will be considered by the Engine and Propeller Directorate, Aircraft Certification Service, before issuance of the final AC.

Background

This draft advisory circular (AC) would provide guidance and acceptable methods, but no the only methods that may be used to demonstrate compliance with the fire prevention requirements under Title 14 Code of Federal Regulations (14 CFR), part 33. Section 33.17 is the primary section addressed in this proposed AC, although other sections of part 33 that address fire prevention may also be applicable. Other related parts and sections are listed in AC 20-135, Powerplant Installation and Propulsion System Component Fire Protection Methods, Standards and Criteria, Appendix 1. This proposed AC is intended to provide guidance relating to these requirements, and is considered a supplement to AC 20-135.

This advisory circular would be published under the authority granted to the Administrator by 49 U.S.C. 106(g), 40113, 44701-44702, 44704, and would provide guidance for the requirements in 14 CFR part 33.

Issued in Burlington, Massachusetts on November 30, 2001.
Fran Favara,
Acting Manager, Engine and Propeller Directorate, Aircraft Certification Service.

[FR Doc. 01-30484 Filed 12-7-01; 8:45 am]

BILLING CODE 4910-13-M